DEPARTMENT OF THE INTERIOR

Fish and Wildlife Service

Notice of Receipt of Applications for Permit

Endangered Species

The following applicants have applied for a permit to conduct certain activities with endangered species. This notice is provided pursuant to section 10(c) of the Endangered Species Act of 1973, as amended (16 U.S.C. 1531, et seq.). Written data or comments should be submitted to the Director, U.S. Fish and Wildlife Service, Division of Management Authority, 4401 North Fairfax Drive, Room 700, Arlington, Virginia 22203 and must be received by the Director within 30 days of the date of this publication.

Applicant: Parker Creek Ranch, San Antonio, TX, PRT-802636

The applicant requests renewal of a permit to authorize interstate and foreign commerce, export and cull of excess male barasingha (Cervus duvauceli), red lechwe (Kobus leche), and Eld's brow-antlered deer (Cervus eldi) from his captive herd for the purpose of enhancement of the survival of the species. This notice shall cover activities under this permit for a period of five years. Permittee must apply for renewal annually.

Applicant: John C. McEwen, Nazareth, PA, PRT-040055

The applicant requests a permit to import the sport-hunted trophy of one male bontebok (Damaliscus pygargus dorcas) culled from a captive herd maintained under the management program of the Republic of South Africa, for the purpose of enhancement of the survival of the species.

Applicant: Hornocker Wildlife Research Institute, Bozeman, MT, PRT-808113

The applicant requests a permit to import biological samples from live Amur leopard (Panthera pardus orientalis) and Siberian tiger (Panthera tigris altaica), and salvaged biological samples as available from carcasses of the same species, collected in the wild in Russia for the purpose of enhancement of the species through scientific research. This notification covers activities conducted by the applicant over a five year period.

The U.S. Fish and Wildlife has information collection approval from OMB through February 28, 2001. OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents to the following office within 30 days of the date of publication of this notice: U.S. Fish and Wildlife Service, Division of Management Authority, 4401 North Fairfax Drive, Room 700, Arlington, Virginia 22203. Phone: (703/358-2104); FAX: (703/358-2281).

Dated: March 16, 2001.
Anna Barry,
Senior Permit Biologist, Branch of Permits, Division of Management Authority.

[FR Doc. 01-7608 Filed 3-27-01; 8:45 am]

BILLING CODE 4310-55-P